DEPARTMENT OF COMMERCE

International Trade Administration

[C-570-046]

1-Hydroxyethylidene-1, 1-Diphosphonic Acid From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on 1-Hydroxyethylidene-1, 1-Diphosphonic Acid (HEDP) from the People's Republic of China (China) would be likely to lead to the continuation or recurrence of countervailable subsidies at the levels indicated in the “Final Results of Sunset Review” section of this notice.

DATES: Applicable July 18, 2022.

FOR FURTHER INFORMATION CONTACT: Benito Ballesteros, AD/CVD Operations, Office V, Enforcement and Compliance, International Trade Administration, U.S. Department of Commerce, 1401 Constitution Avenue NW, Washington, DC 20230; telephone: (202) 482-7425.

SUPPLEMENTARY INFORMATION:

Background

On May 18, 2017, Commerce published in the Federal Register the Order on HEDP from China.¹ On April 1, 2022, Commerce published the notice of initiation of the first sunset review of the Order on HEDP from China, pursuant to section 751(c) of the Tariff Act of 1930, as amended (the Act).² On April 15, 2022, Commerce received a timely notice of intent to participate from Compass Chemical International, LLC (Compass), i.e., a domestic interested party.³ Compass claimed interested party status under section 771(9)(C) of the Act as a producer of the domestic like product in the United States.

¹ See 1-Hydroxyethylidene-1, 1-Diphosphonic Acid from the People's Republic of China: Countervailing Duty Order, 82 FR 22809 (May 18, 2017) (Order).

² See Initiation of Five-Year (Sunset) Reviews, 87 FR 19069 (April 1, 2022).

³ See Compass's Letter, “l-Hydroxyethylidene-1, 1-Diphosphonic Acid from the People's Republic of China: Notice of Intent to Participate,” dated April 15, 2022.

On May 2, 2022, Commerce received a timely and adequate substantive response from Compass.⁴ We received no substantive responses from any other interested parties, including the Government of China, nor was a hearing requested. On May 24, 2022, Commerce notified the U.S. International Trade Commission that it did not receive an adequate substantive response from respondent interested parties.⁵ As a result, pursuant to 751(c)(3)(B) of the Act and 19 CFR 351.218(e)(1)(ii)(C)(2), Commerce conducted an expedited (120-day) sunset review of the Order.

⁴ See Compass's Letter, “1-Hydroxyethylidene-1, 1-Diphosphonic Acid from the People's Republic of China: Substantive Response to the Notice of Initiation,” dated May 2, 2022.

⁵ See Commerce's Letter, “Sunset Reviews Initiated on April 1, 2022,” dated May 24, 2022.

Scope of the Order

The merchandise covered by the Order includes all grades of aqueous acidic (non-neutralized) concentrations of HEDP, also referred to as hydroxyethylidenendiphosphonic acid, hydroxyethanediphosphonic acid, acetodiphosphonic acid, and etidronic acid. The Chemical Abstract Service (CAS) registry number for HEDP is 2809-21-4.

The merchandise subject to the Order is currently classified in the Harmonized Tariff Schedule of the United States (HTSUS) at subheading 2931.90.9043. It may also enter under HTSUS subheadings 2811.19.6090, 2931.90.9041, 2931.90.9051, 2811.19.6190, and 2931.39.0018.⁶ While HTSUS subheadings and the CAS registry number are provided for convenience and customs purposes only, the written description of the scope of the Order is dispositive.

⁶ On September 24, 2020, U.S. Customs and Border Protection notified Commerce of additional HTSUS subheadings under which subject merchandise can be entered. Accordingly, the scope of the Order now reflects those additional HTSUS subheadings. See Memorandum, “Update to the ACE CVD Case Reference File,” dated June 7, 2022.

Analysis of Comments Received

All issues raised in this sunset review are addressed in the accompanying Issues and Decision Memorandum, which is dated concurrently with, and hereby adopted by, this notice.⁷ The issues discussed in the Issues and Decision Memorandum are listed in the appendix to this notice.

⁷ See Memorandum, “Issues and Decision Memorandum for the Final Results of the Expedited First Sunset Review of the Countervailing Duty Order on 1-Hydroxyethylidene-1, 1-Diphosphonic Acid from the People's Republic of China,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would be likely to lead to the continuation or recurrence of countervailable subsidies at the rates listed below:

Producer/exporter | Subsidy rate (percent ad valorem)
Shandong Taihe Chemicals Co., Ltd and Shandong Taihe Water Treatment Technologies Co., Ltd | 2.40
All Others | 2.40
Changzhou Kewei Fine Chemicals Co., Ltd | 54.11
Hebei Longke Water Treatment Co., Ltd | 54.11
Shandong Huayou Chemistry Co., Ltd | 54.11
Shandong Xintai Water Treatment Technology | 54.11
Zaozhuang Fuxing Water Treatment Technology | 54.11
Zaozhuang YouBang Chemicals Co., Ltd | 54.11
Zouping Dongfang Chemical Industry Co., Ltd | 54.11

Administrative Protective Order (APO)

This notice also serves as the only reminder to parties subject to an APO of their responsibility concerning the destruction of proprietary information disclosed under APO in accordance with 19 CFR 351.305. Timely written notification of the return or destruction of APO materials or conversion to judicial protective order is hereby requested. Failure to comply with the regulations and terms of an APO is a sanctionable violation.

Notification to Interested Parties

We are issuing and publishing these results in accordance with sections 751(c), 752(b), and 777(i)(1) of the Act, and 19 CFR 351.218.

Dated: July 11, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Countervailable Subsidies

2. Net Countervailable Subsidy Rates Likely to Prevail

3. Nature of the Subsidies

VII. Final Results of Sunset Review

VIII. Recommendation

[FR Doc. 2022-15207 Filed 7-15-22; 8:45 am]

BILLING CODE 3510-DS-P